DEPARTMENT OF AGRICULTURE

Forest Service

Olympic Provincial Advisory Committee

AGENCY: Forest Service, USDA.

ACTION: Notice of meeting.

SUMMARY: The Olympic Province Advisory Committee (OPAC) will meet on Friday, February 20, 2004. The meeting will be held at the Sequim Community Center, 190 West Cedar Street, Sequim, Washington. The meeting will begin at 9:30 a.m. and end at approximately 3:30 p.m. Agenda topics are: Current status of key Forest issues; Whitebark Pine Survey; Tribal Use of the Forest and Treaty Rights; 2004-2005 Timber Sale Program; Stewardship Contracting; Draft Findings of 2003 Social Monitoring; Open forum; and Public comments.

All Olympic Province Advisory Committee Meetings are open to the public. Interested citizens are encouraged to attend.

FOR FURTHER INFORMATION CONTACT: Direct questions regarding this meeting to Ken Eldredge, Province Liaison, USDA, Olympic National Forest Headquarters, 1835 Black Lake Blvd., Olympia, WA 98512-5623, (360) 956-2323 or Dale Hom, Forest Supervisor, at (360) 956-2301.

Dated: January 20, 2004.
Dale Hom,
Forest Supervisor, Olympic National Forest.

[FR Doc. 04-1555 Filed 1-23-04; 8:45 am]

BILLING CODE 3410-11-M